DEPARTMENT OF ENERGY

Federal Energy Regulatory Commission

Combined Notice of Filings

Take notice that the Commission has received the following Natural Gas Pipeline Rate and Refund Report filings:

Filings Instituting Proceedings

Docket Numbers: CP14-106-000.

Applicants: Dominion Transmission, Inc.

Description: Joint application to abandon rate schedules X-32 of Dominion Transmission, Inc. and X-38 of National Fuel Gas Supply Corporation.

Filed Date: 3/13/14.

Accession Number: 20140313-5118.

Comments Due: 5 p.m. ET 3/31/14.

Docket Numbers: RP13-665-000.

Applicants: Columbia Gulf Transmission, LLC.

Description: Columbia Gulf Transmission, LLC submits tariff filing per: TRA Report on LAUF.

Filed Date: 7/26/13.

Accession Number: 20130726-5156.

Comments Due: 5 p.m. ET 3/24/14.

Docket Numbers: RP14-626-000.

Applicants: Iroquois Gas Transmission System, L.P.

Description: 03/18/14 Negotiated Rates—JP Morgan Ventures Energy Corp (HUB) 6025-89 to be effective 3/16/2014.

Filed Date: 3/18/14.

Accession Number: 20140318-5126.

Comments Due: 5 p.m. ET 3/31/14.

Docket Numbers: RP14-628-000.

Applicants: Chandeleur Pipe Line, LLC.

Description: Chandeleur Section 8.8.4 Imbalances to be effective 4/19/2014.

Filed Date: 3/19/14.

Accession Number: 20140319-5126.

Comments Due: 5 p.m. ET 3/31/14.

Docket Numbers: RP14-629-000.

Applicants: Guardian Pipeline, L.L.C.

Description: Negotiated Rate PAL Agreement—Exelon Generation Company to be effective 3/20/2014.

Filed Date: 3/19/14.

Accession Number: 20140319-5140.

Comments Due: 5 p.m. ET 3/31/14.

Docket Numbers: RP14-630-000.

Applicants: Cheyenne Plains Gas Pipeline Company, L.

Description: Electric Power Costs, Fuel Gas and L&U, and Index Price Development Update to be effective 4/21/2014.

Filed Date: 3/19/14.

Accession Number: 20140319-5159.

Comments Due: 5 p.m. ET 3/31/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2014.
Nathaniel J. Davis, Sr.,
Deputy Secretary.

[FR Doc. 2014-06882 Filed 3-27-14; 8:45 am]

BILLING CODE 6717-01-P